DEPARTMENT OF DEFENSE

Office of the Secretary

[Docket ID: DoD-2014-HA-0001]

Submission for OMB Review; Comment Request

ACTION: Notice.

SUMMARY: The Department of Defense has submitted to OMB for clearance, the following proposal for collection of information under the provisions of the Paperwork Reduction Act (44 U.S.C. Chapter 35).

DATES: Consideration will be given to all comments received by April 28, 2014.

FOR FURTHER INFORMATION CONTACT: Fred Licari, 571-372-0493.

SUPPLEMENTARY INFORMATION:

Title, Associated Form and OMB Number: Prospective Department of Defense Studies of U.S. Military Forces: The Millennium Cohort Study; OMB Control Number 0720-0029.

Type of Request: Revision.

Millennium Cohort Follow-Up Study:

Number of Respondents: 46,747.

Responses per Respondent: 1.

Annual Responses: 46,747.

Average Burden per Response: 45 minutes.

Annual Burden Hours: 35,060.

Millennium Cohort Family Follow-Up Study:

Number of Respondents: 3,576.

Responses per Respondent: 1.

Annual Responses: 3,576.

Average Burden per Response: 45 minutes.

Annual Burden Hours: 2,682.

Combined Burden for Millennium Cohort Studies:

Number of Respondents: 50,323.

Responses per Respondent: 1.

Annual Responses: 50,323.

Average Burden per Response: 45 minutes.

Annual Burden Hours: 37,742.

Needs and Uses: The Millennium Cohort Study responds to recent recommendations by Congress and by the Institute of Medicine to perform investigations that systematically collect population-based demographic and health data so as to track and evaluate the health of military personnel throughout the course of their careers and after leaving military service. The Millennium Cohort Study will also evaluate family impact by adding a spouse assessment component to the Cohort, called the Millennium Cohort Family Study.

Affected Public: Individuals and Households.

Frequency: On Occasion.

Respondent's Obligation: Voluntary.

OMB Desk Officer: Mr. John Kraemer.

Written comments and recommendations on the proposed information collection should be sent to Mr. John Kraemer at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD Information Management Division, 4800 Mark Center Drive, East Tower, Suite 02G09, Alexandria, VA 22350-3100.

Dated: March 25, 2014.
Aaron Siegel,
Alternate OSD Federal Register Liaison Officer, Department of Defense.

[FR Doc. 2014-06910 Filed 3-27-14; 8:45 am]

BILLING CODE 5001-06-P